ENVIRONMENTAL PROTECTION AGENCY

[9924-67-Region 1]

Proposed CERCLA Administrative Cost Recovery Settlement; Adam Spell, St. Albans Gas and Light Company Site, St. Albans, Vermont

AGENCY: Environmental Protection Agency (EPA).

ACTION: Notice of proposed settlement; request for public comments.

SUMMARY: In accordance with section 122(i) of the Comprehensive Environmental Response Compensation, and Liability Act, as amended (“CERCLA”), 42 U.S.C. 9622(i), notice is hereby given of a proposed administrative settlement for recovery of response costs under CERCLA section 122(h) and 104(e), concerning the St. Albans Gas and Light Company Superfund Site in St. Albans, Vermont with the following settling party: Adam Spell. The settlement requires Adam Spell to pay $41,694 to the Hazardous Substance Superfund, with interest.

For 30 days following the date of publication of this notice, the Agency will receive written comments relating to the settlement. The United States will consider all comments received and may modify or withdraw its consent to the settlement if comments received disclose facts or considerations which indicate that the settlement is inappropriate, improper, or inadequate. The Agency's response to any comments received will be available for public inspection at 5 Post Office Square, Boston, MA 02109-3912.

DATES: Comments must be submitted by May 13, 2015.

ADDRESSES: Comments should be addressed to Michelle Lauterback, Senior Enforcement Counsel, U.S. Environmental Protection Agency, 5 Post Office Square, Suite 100 (OES04-3), Boston, MA 02109-3912 (Telephone No. 617-918-1774) and should refer to: In re: St. Albans Gas and Light Company Superfund Site, U.S. EPA Docket No. 01-2015-0023.

FOR FURTHER INFORMATION CONTACT: A copy of the proposed settlement may be obtained from Michelle Lauterback, Senior Enforcement Counsel, U.S. Environmental Protection Agency, 5 Post Office Square, Suite 100 (OES04-3), Boston, MA 02109-3912; (617) 918-1774; Lauterback.michelle@epa.gov).

SUPPLEMENTARY INFORMATION: In this proposed administrative settlement for recovery of response costs under CERCLA section 122(h)(1) and 104(e)(6), concerning the St. Albans Gas and Light Company Superfund Site in St. Albans, Vermont, requires settling party, Adam Spell to pay $41,694 to the Hazardous Substance Superfund, with interest. The settlement includes a covenant not to sue pursuant to sections 106 and 107(a) of CERCLA, 42 U.S.C. 9606 and 9607, relating to the Site, and protection from contribution actions or claims as provided by sections 113(f)(2) and 122(h)(4) of CERCLA, 42 U.S.C. 9613(f)(2) and 9622(h)(4). The settlement has been approved by the Environmental and Natural Resources Division of the United States Department of Justice.

Dated: March 17, 2015.
Nancy Barmakian,
Acting Director, Office of Site Remediation and Restoration.

[FR Doc. 2015-08428 Filed 4-10-15; 8:45 am]

BILLING CODE 6560-50-P